DEPARTMENT OF THE INTERIOR

National Park Service

[NPS-WASO-NAGPRA-NPS0035095; PPWOCRADN0-PCU00RP14.R50000]

Notice of Intent To Repatriate Cultural Items: University of California, Riverside, Riverside, CA

AGENCY: National Park Service, Interior.

ACTION: Notice.

SUMMARY: In accordance with the Native American Graves Protection and Repatriation Act (NAGPRA), the University of California, Riverside (UCR) intends to repatriate certain cultural items that meet the definition of unassociated funerary objects and that have a cultural affiliation with the Indian Tribes or Native Hawaiian organizations in this notice. The cultural items were removed from Orange County, CA.

DATES: Repatriation of the cultural items in this notice may occur on or after February 13, 2023.

ADDRESSES: Megan Murphy, University of California, Riverside, 900 University Avenue, Riverside, CA 92517-5900, telephone (951) 827-6349, email megan.murphy@ucr.edu.

SUPPLEMENTARY INFORMATION: This notice is published as part of the National Park Service's administrative responsibilities under NAGPRA. The determinations in this notice are the sole responsibility of the University of California, Riverside. The National Park Service is not responsible for the determinations in this notice. Additional information on the determinations in this notice, including the results of consultation, can be found in the summary or related records held by the University of California, Riverside.

Description

In 1933, while returning from a day at Laguna Beach, Howard Wilson and Ed Marriner, amateur artifact collectors, discovered the cranium of one Native American individual near Coast Highway in Orange County, where construction crews had reportedly uncovered additional human remains. The cranium, which is referred to colloquially as the “Laguna Woman Skull,” was subsequently studied at various institutions to determine the individual's archeological age. In addition to the cranium, a layer of Mytilus californianus shells was discovered in association with additional human bone fragments. One of these shells contained potential bone fragments in its hollows. In 1969, it was sent to the University of California, Los Angeles (UCLA) radiocarbon dating laboratory for testing. In 2016, R.E. Taylor, the founder of the decommissioned UCR Radiocarbon Dating Laboratory, donated the UCR and UCLA laboratories' archives and residual samples to UCR, including this shell. A note found by UCR NAGPRA Staff on the original sample bag that accompanied the shell reads, “UCLA-1233B, Mytilus californianus Conrad found in long bone of Laguna Man.” The shell and bone fragments yielded a radiocarbon date of >14,800 BPE but this date has been heavily contested in the scientific literature. The one unassociated funerary object is a Mytilus californianus Conrad shell.

In 1991, ahead of the construction of the Newport Coast Planned Community, site CA-ORA-340 was excavated along with 37 other sites by the “Newport Coast Archaeological Project,” under the direction of archeologist Hank Koerper. This site was located on a marine terrace overlooking Crystal Cove, in the Wishbone Hill tract of the planned community. During the excavation of CA-ORA-340, a burial containing the human remains of one adult and one infant was uncovered. Among the associated funerary objects were concentrations of olivella, haliotis, and mytilus shell beads. One of these beads, an orange Olivella shell bead with white spots, was sent to the UCR radiocarbon dating laboratory. In 2016, R.E. Taylor, the founder of the laboratory, donated the collections from the decommissioned laboratory to the UCR library, including this shell bead. Only in 2021, was the provenience of the bead identified, when UCR NAGPRA Staff were reviewing archival records associated with the collection. The one unassociated funerary object is a shell bead.

UCR NAGPRA Program Staff consulted with a number of Tribes with dealings in Orange County including the Juaneño Band of Mission Indians, Acjachemen Nation-Belardes, a non-federally recognized Tribe, who recognize this area as ancestral territory. The Pechanga Band of Indians (previously listed as Pechanga Band of Luiseno Mission Indians of the Pechanga Reservation, California), a federally recognized Tribe, has agreed to accept a transfer of these collections to facilitate repatriation.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, historical, oral traditional, and expert opinion.

Determinations

Pursuant to NAGPRA and its implementing regulations, and after consultation with the appropriate Indian Tribes and Native Hawaiian organizations, the University of California, Riverside has determined that:

• The two cultural items described above are reasonably believed to have been placed with or near individual human remains at the time of death or later as part of the death rite or ceremony and are believed, by a preponderance of the evidence, to have been removed from a specific burial site of a Native American individual.

• There is a relationship of shared group identity that can be reasonably traced between the cultural items and the Pechanga Band of Indians (previously listed as Pechanga Band of Luiseno Mission Indians of the Pechanga Reservation, California).

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 13, 2023. If competing requests for repatriation are received, the University of California, Riverside must determine the most appropriate requestor prior to repatriation. Requests for joint repatriation of the cultural items are considered a single request and not competing requests. The University of California, Riverside is responsible for sending a copy of this notice to the Indian Tribe identified in this notice.

Authority: Native American Graves Protection and Repatriation Act, 25 U.S.C. 3003, and the implementing regulations, 43 CFR 10.8, 10.10, and 10.14.

Dated: January 4, 2023.
Melanie O'Brien,
Manager, National NAGPRA Program.

[FR Doc. 2023-00466 Filed 1-11-23; 8:45 am]

BILLING CODE 4312-52-P